DEPARTMENT OF ENERGY

Federal Energy Regulatory Commission

[Project No. 460-033]

City of Tacoma, WA; Notice of Settlement Agreement and Soliciting Comments

January 27, 2009.

Take notice that the following settlement agreement has been filed with the Commission and is available for public inspection.

a. Type of Application: Settlement Agreement.

b. Project No.: 460-033.

c. Date Filed: January 21, 2009.

d. Applicant: City of Tacoma, Washington (Tacoma).

e. Name of Project: Cushman Hydroelectric Project.

f. Location: Located on the North Fork of the Skokomish River, in Mason County, Washington, in part on federal lands in the Olympic National Forest and the Skokomish Indian Tribe Reservation.

g. Filed Pursuant to: Rule 602 of the Commission's Rules of Practice and Procedure, 18 CFR 385.602.

h. Applicant Contact: Mr. Michael A. Swiger, Counsel to the City of Tacoma, Washington, Van Ness Feldman, 1050 Thomas Jefferson Street, NW., Washington, DC 20007-3877; Telephone (202) 298-1800; e-mail—mas@vnf.com.

i. FERC Contact: Allan Creamer at (202) 502-8365, or by e-mail at allan.creamer@ferc.gov.

j. Deadline for Filing Comments: The deadline for filing comments on the Settlement Agreement is 30 days from the date of this notice (February 26, 2009). The deadline for filing reply comments is 45 days from the date of this notice (March 13, 2009). All documents (original and eight copies) should be filed with: Kimberly D. Bose, Secretary, Federal Energy Regulatory Commission, 888 First Street, NE., Washington, DC 20426.

The Commission's Rules of Practice require all participants filing documents with the Commission to serve a copy of that document on each person on the official service list for the project. Further, if a participant files comments or documents with the Commission relating to the merits of an issue that may affect the responsibilities of a particular resource agency, they must also serve a copy of the document on that resource agency.

Comments may be filed electronically via the Internet in lieu of paper. See 18 CFR 385.2001(a)(1)(iii) and the instructions of the Commission's Web site (http://www.ferc.gov) under the “e-filing” link.

k. On behalf of itself, the Skokomish Indian Tribe, and six state and federal agencies, Tacoma filed a comprehensive settlement agreement (Agreement), along with a Joint Explanatory Statement (JES) for the Cushman Project. The purpose of the Agreement is to resolve, among the signatories, outstanding issues associated with the project, including, but not limited to, those associated with the DC Circuit Court of Appeals' remand of the Commission's July 30, 1998 Order Issuing Subsequent Major License. As detailed in the JES, the Agreement and proposed license articles provide specific measures for each of the license obligations set forth in the 1998 Order. The major issues addressed in the Agreement relate to: (1) Project operations (e.g., flows in the North Fork, channel maintenance flows, lake levels, ramping rates, etc.); (2) salmon and steelhead restoration activities (e.g, fish passage, hatchery and stocking program, habitat enhancements, etc.); (3) estuarine habitat enhancement; (4) wildlife habitat enhancement (e.g., land acquisition); (5) flooding on the North Fork and mainstem Skokomish River; (6) shoreline management and recreation access; and (7) adaptive management.

The filing includes a draft of Tacoma's license amendment to construct a new powerhouse at the base of Dam No. 2. Tacoma states that the full amendment will be filed separately, and requests that the Commission process the amendment contemporaneously with the Agreement. Tacoma also requests that the Commission schedule a technical conference to discuss any questions concerning the Agreement. The Commission will address the request for a technical conference after reviewing the comments received on the Agreement, and will institute a proceeding on the amendment application after it is filed.

Tacoma requests that the Commission: (1) Act expeditiously to approve the Agreement without modification; (2) extend the license term to June 30, 2048 (or 50 years from license issuance); and (3) approve the license amendment for the new North Fork powerhouse.

l. A copy of the Settlement Agreement is available for review at the Commission in the Public Reference Room or may be viewed on the Commission's Web site at http://www. ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Kimberly D. Bose,
Secretary.

[FR Doc. E9-2218 Filed 2-2-09; 8:45 am]

BILLING CODE 6717-01-P